FEDERAL EMERGENCY MANAGEMENT AGENCY

44 CFR Part 65

[Docket No. FEMA—B -7431]

Changes in Flood Elevation Determinations

AGENCY: Federal Emergency Management Agency (FEMA).

ACTION: Interim rule.

SUMMARY: This interim rule lists communities where modification of the Base (1-percent-annual-chance) Flood Elevations is appropriate because of new scientific or technical data. New flood insurance premium rates will be calculated from the modified Base Flood Elevations for new buildings and their contents.

DATES: These modified Base Flood Elevations are currently in effect on the dates listed in the table below and revise the Flood Insurance Rate Maps in effect prior to this determination for each listed community.

From the date of the second publication of these changes in a newspaper of local circulation, any person has ninety (90) days in which to request through the community that the Director, Federal Insurance and Mitigation Administration, reconsider the changes. The modified elevations may be changed during the 90-day period.

ADDRESSES: The modified Base Flood Elevations for each community are available for inspection at the office of the Chief Executive Officer of each community. The respective addresses are listed in the table below.

FOR FURTHER INFORMATION CONTACT: Matthew B. Miller, P.E., Chief, Hazards Study Branch, Federal Insurance and Mitigation Administration, 500 C Street SW., Washington, DC 20472, (202) 646-3461, or (e-mail) matt.miller@fema.gov.

SUPPLEMENTARY INFORMATION: The modified Base Flood Elevations are not listed for each community in this interim rule. However, the address of the Chief Executive Officer of the community where the modified Base Flood Elevation determinations are available for inspection is provided.

Any request for reconsideration must be based on knowledge of changed conditions or new scientific or technical data.

The modifications are made pursuant to section 201 of the Flood Disaster Protection Act of 1973, 42 U.S.C. 4105, and are in accordance with the National Flood Insurance Act of 1968, 42 U.S.C. 4001 et seq., and with 44 CFR part 65.

For rating purposes, the currently effective community number is shown and must be used for all new policies and renewals.

The modified Base Flood Elevations are the basis for the floodplain management measures that the community is required to either adopt or to show evidence of being already in effect in order to qualify or to remain qualified for participation in the National Flood Insurance Program (NFIP).

These modified elevations, together with the floodplain management criteria required by 44 CFR 60.3, are the minimum that are required. They should not be construed to mean that the community must change any existing ordinances that are more stringent in their floodplain management requirements. The community may at any time enact stricter requirements of its own, or pursuant to policies established by other Federal, State, or regional entities.

The changes in Base Flood Elevations are in accordance with 44 CFR 65.4.

National Environmental Policy Act

This rule is categorically excluded from the requirements of 44 CFR part 10, Environmental Consideration. No environmental impact assessment has been prepared.

Regulatory Flexibility Act

The Administrator, Federal Insurance and Mitigation Administration certifies that this rule is exempt from the requirements of the Regulatory Flexibility Act because modified Base Flood Elevations are required by the Flood Disaster Protection Act of 1973, 42 U.S.C. 4105, and are required to maintain community eligibility in the NFIP. No regulatory flexibility analysis has been prepared.

Regulatory Classification

This interim rule is not a significant regulatory action under the criteria of section 3(f) of Executive Order 12866 of September 30, 1993, Regulatory Planning and Review, 58 FR 51735.

Executive Order 12612, Federalism

This rule involves no policies that have federalism implications under Executive Order 12612, Federalism, dated October 26, 1987.

Executive Order 12778, Civil Justice Reform

This rule meets the applicable standards of section 2(b)(2) of Executive Order 12778.

List of Subjects in 44 CFR Part 65

Flood insurance, Floodplains, Reporting and recordkeeping requirements.

Accordingly, 44 CFR part 65 is amended to read as follows:

PART 65—[AMENDED]

1. The authority citation for part 65 continues to read as follows:

Authority: 42 U.S.C. 4001 et seq.; Reorganization Plan No. 3 of 1978, 3 CFR, 1978 Comp., p. 329; E.O. 12127, 44 FR 19367, 3 CFR, 1979 Comp., p. 376.

§ 65.4 [Amended]

2. The tables published under the authority of § 65.4 are amended as follows:

State and county | Location and case No. | Date and name of newspaper where notice was published | Chief executive officer of community | Effective date of modification | Community No.
Arizona:
Maricopa | Town of Carefree (01-09-1157P), (02-09-1409X) | August 29, 2002; September 5, 2002; Arizona Business Gazette | The Honorable Edward C. Morgan, Mayor, Town of Carefree P.O. Box 740, Carefree, Arizona 85377 | December 5, 2002 | 040126
Maricopa | Town of Cave Creek (01-09-1157P), (02-09-1409X) | August 29, 2002; September 5, 2002; Arizona Business Gazette | The Honorable Vincent Francia, Mayor, Town of Cave Creek, 37622 North Cave Creek Road, Cave Creek, Arizona 85331 | December 5, 2002 | 040129
Maricopa | City of Chandler (02-09-248P) | July 24, 2002; July 31, 2002; Arizona Republic | The Honorable Jay Tibshraeny, Mayor, City of Chandler, 55 North Arizona Place, Chandler, Arizona 85225 | October 30, 2002 | 040040
Maricopa | City of Scottsdale (01-09-1157P), (02-09-1409X) | August 29, 2002; September 5, 2002; Arizona Business Gazette | The Honorable Mary Manross, Mayor, City of Scottsdale, 3939 North Drinkwater Boulevard, Scottsdale, Arizona 85251 | December 5, 2002 | 045012
Maricopa | Unincorporated Areas (02-09-068P) | September 5, 2002; September 12, 2002; Arizona Business Gazette | The Honorable Don Stapley, Chairman, Maricopa County Board of Supervisors, 301 West Jefferson, 10th Floor, Phoenix, Arizona 85003 | August 21, 2002 | 040037
Pima | City of Tucson (02-09-1050P) | September 18, 2002; September 25, 2002; Daily Territorrial | The Honorable Robert Walkup, Mayor, City of Tucson, P.O. Box 27210, Tucson, Arizona, 85726 | September 11, 2002 | 040076
Pima | Unincorporated Areas (02-09-1007P) | September 19, 2002; September 26, 2002; Arizona Daily Star | The Honorable Raul Grijalva, Chairman, Pima County , Board of Supervisors, 130 West Congress, 11th Floor, Tucson, Arizona 85701 | September 9, 2002 | 040073
California:
Alameda | City of Dublin, (00-09-931P) | July 26, 2002; August 2, 2002; Tri-Valley Herald | The Honorable Janet Lockhart, Mayor, City of Dublin, 100 Civic Plaza, Dublin, California 94568 | November 1, 2002 | 060705
San Diego | City of San Diego, (00-09-717P) | August 15, 2002; August 22, 2002; San Diego Union-Tribune | The Honorable Richard M. Murphy, Mayor, City of San Diego, 202 C Street, 11th Floor, San Diego, California 92101 | November 21, 2002 | 060295
Yolo | City of Winters, (02-09-649P) | August 1, 2002; August 8, 2002; Winters Express | The Honorable Harold Anderson, Mayor, City of Winters, 318 First Street, Winters, California 95694-1923 | July 11, 2002 | 060425
Colorado:
El Paso | City of Colorado Springs, (02-08-141P) | August 14, 2002; August 21, 2002; The Gazette | The Honorable Mary Lou Makepeace, Mayor, City of Colorado Springs, P.O. Box 1575, Colorado Springs, Colorado 80901-1575 | August 6, 2002 | 080060
El Paso | City of Colorado Springs, (02-08-325P) | September 5, 2002; September 12, 2002; The Gazette | The Honorable Mary Lou Makepeace, Mayor, City of Colorado Springs, P.O. Box 1575, Colorado Springs, Colorado 80901-1575 | August 21, 2002 | 080060
Jefferson | City of Golden (02-08-185P) | August 8, 2002; August 15, 2002; Denver Post | The Honorable Charles J. Baroch, Mayor, City of Golden, 911 10th Street, Golden, Colorado 80401 | November 14, 2002 | 080090
Jefferson | City of Westminster (02-08-013P) | September 12, 2002; September 19, 2002; Westminster Window | The Honorable Ed Moss, Mayor, City of Westminster, 4800 West 92nd Avenue, Westminster, Colorado 80031 | December 19, 2002 | 080008
Jefferson | Unincorporated Areas (02-08-185P) | August 8, 2002; August 15, 2002; Denver Post | The Honorable Michelle Lawrence, Chairman, Jefferson County Board of Commissioners, 100 Jefferson County Parkway, Golden, Colorado 80419 | July 23, 2002 | 080087
Jefferson | Unincorporated Areas (02-08-368P) | September 18, 2002; September 25, 2002; Canyon Courier | The Honorable Michelle Lawrence, Chairman, Jefferson County Board of Commissioners, 100 Jefferson County Parkway, Golden, Colorado 80419 | December 25, 2002 | 080087
Weld | Town of Firestone (01-08-384P) | July 31, 2002; August 7, 2002; Farmer and Miner | The Honorable Michael Simone, Mayor, Town of Firestone, P.O. Box 100, Firestone, Colorado 80520 | November 6, 2002 | 080241
Weld | Unincorporated Areas (01-08-384P) | July 31, 2002; August 7, 2002; Greeley Tribune | The Honorable Glenn Vaad, Chairman, Weld County Board of Commissioners, P.O. Box 758, Greeley, Colorado 80632-0758 | July 11, 2002 | 080266
Texas:
Collin | City of Frisco (00-06-1133P) | February 1, 2002; February 8, 2002; Frisco Enterprise | The Honorable Kathy Seei, Mayor, City of Frisco, City Hall, P.O. Box 1100, Frisco, Texas 75034 | November 2, 2000 | 480134
Dallas | City of Dallas (99-06-1120P) | January 31, 2002; February 7, 2002; Dallas Morning News | The Honorable Ron Kirk, Mayor, City of Dallas, 1500 Marilla Street, Dallas, Texas 75201 | November 13, 2000 | 480171
Utah:
Utah | City of Spanish Fork (01-08-306P) | August 28, 2002; September 4, 2002; Daily Herald | The Honorable Dale Barney, Mayor, City of Spanish Fork, 40 South Main Street, Spanish Fork, Utah 84660 | February 16, 2003 | 490241
Utah | Unincorporated Areas (01-08-306P) | August 28, 2002; September 4, 2002; Daily Herald | The Honorable Jerry Grover, Chairman, Utah County Board of Commissioners, County Administration Building, 100 East Center Street, Suite 2300, Provo, Utah 84606 | December 4, 2002 | 495517

(Catalog of Federal Domestic Assistance No. 83.100, “Flood Insurance”)
Dated: October 17, 2002.
Anthony S. Lowe,
Administrator, Federal Insurance and Mitigation Administration.

[FR Doc. 02-27320 Filed 10-25-02; 8:45 am]

BILLING CODE 6718-04-P